DEPARTMENT OF ENERGY

Bonneville Power Administration

Kangley-Echo Lake Transmission Line Project

AGENCY: Bonneville Power Administration (BPA), Department of Energy (DOE).

ACTION: Notice of availability of Record of Decision (ROD).

SUMMARY: This notice announces the availability of the ROD to construct the proposed Kangley-Echo Lake Transmission Line Project in King County, Washington, based on the Kangley-Echo Lake Transmission Line Project Final Environmental Impact Statement (DOE/EIS-0317-S1, June 2003). BPA has decided to implement the Proposed Action (Alternative 1) identified in the environmental impact statement, which consists of constructing a new 9-mile 500-kilovolt (kV) transmission line from a tap point on an existing 500-kV line near Kangley, Washington, to BPA's Echo Lake Substation. BPA is taking this action to continue to provide reliable power to customers throughout the Northwest and to other regions and Canada as population grows.

ADDRESSES: Copies of the ROD and EIS may be obtained by calling toll-free 1-888-276-7790. The ROD and EIS are also available on BPA's Transmission Business Line Web site, http://www.transmission.bpa.gov/projects.

FOR FURTHER INFORMATION, CONTACT: Gene Lynard, Environmental Project Manager, Bonneville Power Administration—KEC-4, P.O. Box 3621, Portland, Oregon, 97208-3621; toll-free telephone number 1-800-282-3713; direct telephone number 503-230-3790; fax number 503-230-5699; or e-mail gplynard@bpa.gov.

SUPPLEMENTARY INFORMATION: The Proposed Action, construction of a new 500-kV transmission line from Kangley, Washington, to Echo Lake Substation, will be constructed next to an existing 500-kV line. Five miles of the route will go through the Cedar River Municipal Watershed (CRW). In addition, Echo Lake Substation will be expanded about three acres to the east and new equipment will be installed to accommodate the new line. The Proposed Action will primarily use 500-kV single-circuit steel lattice structures averaging about 135 feet high. In the CRW, where the line crosses the Cedar River, two 500-kV double-circuit lattice structures will be used to hold the new 500-kV line and the existing 500-kV line. BPA will purchase easements for a new 150-foot-wide right-of-way (ROW) for the new line (except at the Cedar River crossing where BPA will use its existing ROW). Clearing of tall-growing vegetation within the ROW will be required to insure reliable transmission service. As part of the Proposed Action, BPA has decided to construct new spur roads, upgrade existing access roads, and remove from service some existing roads; and install fiber optic cable on the new line and part of the existing 500-kV line into Raver Substation. The Proposed Action also includes a commitment to a variety of mitigation measures described in the mitigation section.

Issued in Portland, Oregon, on July 21, 2003.
Stephen J. Wright,
Administrator and Chief Executive Officer.

[FR Doc. 03-19251 Filed 7-28-03; 8:45 am]

BILLING CODE 6450-01-U